DEPARTMENT OF HEALTH AND HUMAN SERVICES

National Institutes of Health

National Institute of Biomedical Imaging and Bioengineering; Notice of Closed Meeting

Pursuant to section 10(d) of the Federal Advisory Committee Act, as amended (5 U.S.C. App.), notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Biomedical Imaging and Bioengineering Special Emphasis Panel, BTRC P41 Review.

Date: October 10-12, 2012.

Time: 6 p.m. to 12 p.m.

Agenda: To review and evaluate grant applications.

Place: Courtyard Marriott Milwaukee Brookfield, 16865 West Bluemound Road, Brookfield, WI 53008.

Contact Person: Manana Sukhareva, Ph.D., Scientific Review Officer, National Institute of Biomedical Imaging and Bioengineering, National Institutes of Health, 6707 Democracy Boulevard, Suite 959, Bethesda, MD 20892, 301-451-3397, sukharem@mail.nih.gov.

Name of Committee: National Institute of Biomedical Imaging and Bioengineering Special Emphasis Panel, 2013-01 K Award Application Review.

Date: October 22, 2012.

Time: 10 a.m. to 4 p.m.

Agenda: To review and evaluate grant applications.

Place: National Institutes of Health, Two Democracy Plaza, 6707 Democracy Boulevard, Bethesda, MD 20892 (Virtual Meeting).

Contact Person: Ruixia Zhou, Ph.D., Scientific Review Officer, 6707 Democracy Boulevard, Democracy Two Building, Suite 957, Bethesda, MD 20892, 301-496-4773, zhour@mail.nih.gov.

Name of Committee: National Institute of Biomedical Imaging and Bioengineering Special Emphasis Panel, P41 Review 2013-01.

Date: October 24-26, 2012.

Time: 6 p.m. to 1 p.m.

Agenda: To review and evaluate grant applications.

Place: Holiday Inn Minneapolis Metrodome, 1500 Washington Avenue South, Minneapolis, MN 55454.

Contact Person: Ruth Grossman, DDS, Scientific Review Officer, National Institute of Biomedical Imaging and Bioengineering, National Institutes of Health, 6707 Democracy Boulevard, Suite 960, Bethesda, MD 20892, 301-496-8775, grossmanrs@mail.nih.gov.

Name of Committee: National Institute of Biomedical Imaging and Bioengineering Special Emphasis Panel, BTRC P41 Review.

Date: November 7-9, 2012.

Time: 6 p.m. to 12 p.m.

Agenda: To review and evaluate grant applications.

Place: Atrium Hotel, 18700 MacArthur Blvd., Irvine, CA 92612.

Contact Person: Manana Sukhareva, Ph.D., Scientific Review Officer, National Institute of Biomedical Imaging and Bioengineering, National Institutes of Health, 6707 Democracy Boulevard, Suite 959, Bethesda, MD 20892, 301-451-3397, sukharem@mail.nih.gov.

Dated: August 29, 2012.
David Clary,
Program Analyst, Office of Federal Advisory Committee Policy.

[FR Doc. 2012-21750 Filed 9-4-12; 8:45 am]

BILLING CODE 4140-01-P